DEPARTMENT OF COMMERCE

National Oceanic and Atmospheric Administration

RIN 0648-XC790

Western Pacific Fishery Management Council; Public Meetings

AGENCY: National Marine Fisheries Service (NMFS), National Oceanic and Atmospheric Administration (NOAA), Commerce.

ACTION: Notice of public meetings.

SUMMARY: This notice advises the public that the Western Pacific Fishery Management Council (Council) will convene meetings of the Northern Mariana Islands Regional Ecosystem Advisory Committee (REAC) in Saipan, Commonwealth of the Northern Mariana Islands.

DATES: The REAC meeting will be held Thursday, August 22, 2013. For the specific dates, times, and agendas for the meetings see SUPPLEMENTARY INFORMATION.

ADDRESSES: The meetings of the CNMI REAC will be held at the Multipurpose Center, Susupe, CNMI.

FOR FURTHER INFORMATION CONTACT: Kitty M. Simonds, Executive Director; telephone: (808)522-8220.

SUPPLEMENTARY INFORMATION:

Schedule and Agenda for CNMI REAC Meeting

9 a.m.-3 p.m. Thursday, August 22, 2013

1. Welcome and Introduction

2. Status Report on 157th Council Meeting Recommendations regarding CNMI

3. CNMI Commercial Dock Development Study

A. Contract and Project Status

B. Overview of draft Dock Development Plan Study

i. Existing Conditions (Sites, Loading, Design Criteria, Mooring, Berthing, Utilities, etc)

ii. Land-side support facilities

a. Outer Cove Mariana

b. Puerto Rico Dump

c. Echo Dock

d. Sea Plan Ramp

iv. Environmental Consideration and Permits

v. Discussion on Preferred Site Location

C. Evaluation of Preliminary Alternatives

D. Discussion on Preferred Site Location

4. Council Coral Reef Grant Priorities and Projects

5. Revising the Large Vessel Closure for CNMI Bottomfish

6. Other Business

7. Public Comment

8. Discussion and Recommendations

The order in which agenda items are addressed may change. Public comment periods will be provided throughout each agenda. The REAC will meet as late as necessary to complete scheduled business.

Special Accommodations

These meetings are physically accessible to people with disabilities. Requests for sign language interpretation or other auxiliary aids should be directed to Kitty M. Simonds, (808)522-8220 (voice) or (808)522-8226 (fax), at least 5 days prior to the meeting date.

Authority: 16 U.S.C. 1801 et seq.

Dated: July 30, 2013.
Tracey L. Thompson,
Acting Deputy Director, Office of Sustainable Fisheries, National Marine Fisheries Service.

[FR Doc. 2013-18654 Filed 8-1-13; 8:45 am]

BILLING CODE 3510-22-P